DEPARTMENT OF THE INTERIOR

Fish and Wildlife Service

[FWS-R1-NWRS-2010-N056; 1265-0000-10137 S3]

Deer Flat National Wildlife Refuge, Canyon, Owyhee, Payette, and Washington Counties, ID; Malheur County, OR

AGENCY: Fish and Wildlife Service, Interior.

ACTION: Notice of intent; announcement of open houses; request for comments.

SUMMARY: We, the U.S. Fish and Wildlife Service (Service), intend to prepare a comprehensive conservation plan (CCP) for Deer Flat National Wildlife Refuge (Refuge). The Refuge has units located in Canyon, Owyhee, Payette, and Washington Counties, ID, and Malheur County, OR. We will prepare an environmental impact statement (EIS) to evaluate the potential effects of various CCP alternatives. This notice also requests public comments and announces public open houses; see DATES, ADDRESSES, and SUPPLEMENTARY INFORMATION for the details. We issue this notice in compliance with our CCP policy to notify the public and other agencies of our intentions and to obtain suggestions and information on the scope of issues we will consider during the CCP planning process.

DATES: To ensure consideration, we must receive your written comments by September 10, 2010. Public open houses will be held on July 28, August 20, and August 21, 2010; see SUPPLEMENTARY INFORMATION for details.

ADDRESSES: Send your comments or requests for more information by any of the following methods:

E-mail: deerflat@fws.gov.

Fax: Attn: Refuge Manager, (208) 467-1019.

U.S. Mail: Refuge Manager, Deer Flat National Wildlife Refuge, 13751 Upper Embankment Road, Nampa, ID 83686.

In-Person Drop-Off: You may drop off comments during regular business hours (8 a.m. to 4 p.m.) at the above address, or at the public open house.

FOR FURTHER INFORMATION CONTACT: Jennifer Brown-Scott, phone (208) 467-9278.

SUPPLEMENTARY INFORMATION:

Introduction

With this notice, we initiate our process for developing a CCP for the Refuge. This notice complies with our CCP policy to (1) advise the public, other Federal and State agencies, and Tribes of our intention to conduct detailed planning on the Refuge, and (2) obtain suggestions and information on the scope of issues to consider during development of the Draft CCP/EIS.

Background

The CCP Process

The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation. We will review and update the CCP at least every 15 years in accordance with the National Wildlife Refuge System Administration Act.

Each unit of the National Wildlife Refuge System was established for specific purposes. We use these purposes as the foundation for developing and prioritizing the management goals and objectives for each refuge within the National Wildlife Refuge System mission, and to determine how the public can use each refuge. The planning and public involvement process is a way for the Service and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for future management of the Refuge.

We will conduct the environmental review of this project and develop an EIS in accordance with the requirements of the National Environmental Policy Act of 1969, as amended (NEPA) (42 U.S.C. 4321 et seq.); NEPA regulations (40 CFR parts 1500-1508); other appropriate Federal laws and regulations; and our policies and procedures for compliance with those laws and regulations.

Deer Flat National Wildlife Refuge

The Refuge was established in 1909 by President Theodore Roosevelt. Its purpose is to serve as a refuge and breeding ground for migratory birds and other wildlife. The Refuge encompasses 11,860 acres in two units—the Lake Lowell Unit and the Snake River Islands Unit. The Lake Lowell Unit encompasses 10,640 acres located in Canyon County, ID. The Lake Lowell Unit is an overlay refuge, on an off-stream Bureau of Reclamation (Reclamation) irrigation project. Reclamation owns and operates two dams on Lake Lowell to manage the lake's water for irrigation. Reclamation will participate in our CCP planning, NEPA, and public involvement process as a cooperating agency. The Snake River Islands Unit includes over 100 islands along 113 miles of the Snake River located in Canyon, Payette, Owyhee, and Washington Counties in ID; and Malheur County, OR.

The Refuge provides a variety of wildlife habitats, including the open waters and wetland edges of Lake Lowell, sagebrush uplands and riparian forest around the lake, and grassland and riparian forests on the Snake River Islands. In early summer, western grebes, white pelicans, mallards, and wood ducks congregate on the lake. When the lake is drawn down in late summer for irrigation, large numbers of shorebirds—including least sandpipers, godwits, yellowlegs, and plovers—feed on the exposed mudflats. Duck populations peak in mid-December, with 40,000-70,000 ducks using Lake Lowell annually. The Snake River Islands' grassland, shrub, and riparian forest habitats and surrounding waters provide habitat throughout the year for herons, cormorants, songbirds, and predators such as foxes, coyotes, red-tailed hawks, and American kestrels. Over 250 species of birds and 30 species of mammals can be found on the Refuge.

Preliminary Issues, Concerns, and Opportunities

We have identified preliminary issues, concerns, and opportunities that we may address in the CCP. We will be refining these issues and/or identifying additional issues, with input from the public, partners, and Federal, State, local and tribal governments during the public comment period. Some of these issues follow.

• What actions should we take to sustain and restore priority wildlife species and habitats over the next 15 years?

• What, where, when, and how should wildlife-dependent and other public use opportunities be provided?

• Are existing Refuge access points and uses adequate and appropriate?

• Should some areas of the Refuge be managed as undisturbed wildlife sanctuary areas?

• How can the Service, Reclamation, and others improve Lake Lowell's water quality?

Public Comments

Throughout the summer of 2010 we will conduct a public scoping comment period. During this time we will meet with stakeholders; Federal, State, local and tribal governments; and other interested parties, and hold three public open houses to answer questions and accept comments regarding refuge planning issues to be considered. Comments are due by September 10, 2010.

Open Houses

Three open houses will be held on July 28, August 20, and August 21, 2010, at the Deer Flat National Wildlife Refuge Visitor Center, 13751 Upper Embankment Road, Nampa, ID 83686. The open houses are scheduled from 12 p.m. to 3 p.m. and 6 p.m. to 9 p.m. on July 28; 10 a.m. to 6 p.m. on August 20, and 10 a.m. to 3 p.m. on August 21. For more information visit our Web site at http://www.fws.gov/deerflat/.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: June 7, 2010.
Carolyn A. Bohan,
Acting Regional Director, Region 1, Portland, Oregon.

[FR Doc. 2010-17269 Filed 7-14-10; 8:45 am]

BILLING CODE 4310-55-P